DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Long Island Rail Road

[Docket Number FRA-2005-21964]

The Long Island Rail Road (LIRR) seeks a waiver of compliance from certain provisions of the Railroad Operating Practices regulations, 49 CFR part 218, regarding blue signal protection of workers. Specifically, the LIRR requests relief from the requirements of 49 CFR 218.29 Alternate methods of protection, at its Diesel Service Facilities in Richmond Hills, NY, and Long Island City, NY.

According to LIRR, both facilities are stub-end yards jointly used by both transportation and mechanical forces. These yards function to service, inspect, maintain, and dispatch the diesel passenger fleet for the LIRR. Each facility has a speed limit of 5 mph, with fixed derails on each service track and manually operated switches. Yard movement is controlled by a yardmaster. Due to the configuration and service demands, the yard cannot facilitate the placement of a derail at the 150-foot interval as prescribed in § 218.29. Additionally, LIRR believes that lining and locking the manual switches increases potential error of proper switch alignment, and is a safety concern for all employees working in the area. Therefore, LIRR requests that employees at these two facilities be allowed to place derails at a distance of 50-feet from the equipment. LIRR states that they will post signage to reinforce the 5 mph speed restriction, as well as paint physical clearance lines denoting the 50-foot distance.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2005-21964) and must be submitted in triplicate to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on September 12, 2005.
Grady C. Cothen, Jr.,
Deputy Associate Administrator for Safety Standards and Program Development.

[FR Doc. 05-18482 Filed 9-15-05; 8:45 am]

BILLING CODE 4910-06-P